DEPARTMENT OF EDUCATION

RIN 1830 ZA04

Smaller Learning Communities Program

AGENCY: Office of Vocational and Adult Education, Department of Education.

ACTION: Notice of proposed requirements, priorities, and selection criteria for Fiscal Year (FY) 2003 and subsequent years funds.

SUMMARY: The Assistant Secretary for Vocational and Adult Education proposes requirements, priorities, and selection criteria under the Smaller Learning Communities (SLC) Program. The Assistant Secretary will use these requirements, priorities, and selection criteria for a competition using fiscal year (FY) 2003 funds and may use them in later years.

DATES: We must receive your comments on or before February 6, 2004.

ADDRESSES: Address all comments about these proposed requirements, priorities, and selection criteria to Deborah Williams, U.S. Department of Education, OVAE, MES Room 5518, 400 Maryland Avenue SW., Washington, DC 20202-7100. If you prefer to send your comments through the Internet, use the following address: deborah.williams@ed.gov. You must include the term “SLC Proposed Requirements” in the subject line of your electronic message.

FOR FURTHER INFORMATION CONTACT: Deborah Williams. Telephone: (202) 205-0242 or via Internet: deborah.williams@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding these proposed requirements, priorities, and selection criteria. To ensure that your comments have maximum effect in developing the notice of final requirements, priorities, and selection criteria, we urge you to identify clearly the specific proposed requirement, priority, or selection criterion that each comment addresses.

We invite you to assist us in complying with the specific requirements of Executive Order 12866 and its overall requirement of reducing regulatory burden that might result from these proposed requirements, priorities, and selection criteria. Please let us know of any further opportunities we should take to reduce potential costs or increase potential benefits while preserving the effective and efficient administration of the program.

During and after the comment period, you may inspect all public comments about these proposed requirements, priorities, and selection criteria in Room 5518, 330 C Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed requirements, priorities, and selection criteria. If you want to schedule an appointment for this type of aid, please contact Deborah Williams. Telephone: (202) 205-0242 or via Internet: deborah.williams@ed.gov.

Background

The Smaller Learning Communities program is authorized under Title V, Part D, Subpart 4 of the Elementary and Secondary Education Act of 1965 (ESEA) (20 U.S.C. 7249), as amended by Public Law 107-110, the No Child Left Behind Act of 2001.

The No Child Left Behind Act of 2001 is the most sweeping reform of Federal education policy in a generation. It is designed to implement the President's agenda to improve America's public schools by: (1) Ensuring accountability for results, (2) providing unprecedented flexibility in the use of Federal funds in implementing education programs, (3) focusing on proven educational methods, and (4) expanding educational choice for parents. Since the enactment of the original ESEA in 1965, the Federal Government has spent more than $130 billion to improve public schools. Unfortunately, this investment in education has not yet eliminated the achievement gap between affluent and lower-income students or between minority students and non-minority students.

The U.S. Department of Education (Department) has developed a strategic plan that serves as the roadmap for all Departmental activities and investments. The plan specifically focuses on, among other areas, improving the performance of all high school students and holding schools accountable for raising the academic achievement level of all students. The Department will work with States to ensure that students attain the strong academic knowledge and skills necessary for future success in postsecondary education and adult life. The Department will encourage students to take more rigorous courses, especially in the areas of math and science. In addition, the Department is committed to ensuring that our Nation's schools are safe environments conducive to learning.

One strategy that holds promise for improving the academic performance of our Nation's young people is the establishment of smaller learning communities as components of comprehensive high school improvement plans. The problems of large high schools and the related question of optimal school size have been debated for the last 40 years and are of growing interest today. Approximately 50 percent of American high schools enroll 1,000 or more students; nearly 70 percent of high school students attend schools enrolling more than 1,500 students. Some students attend schools enrolling as many as 4,000 to 5,000 students.

While the research on school size to date has been largely non-experimental, there is a growing body of evidence that suggests that smaller schools may have advantages over larger schools. Research suggests that the positive outcomes associated with smaller schools stem from the schools' ability to create close, personal environments in which teachers can work collaboratively, with each other and with a small set of students, to challenge students and support learning. A variety of structures and operational strategies are thought to provide important supports for smaller learning environments; some data suggest that these approaches offer substantial advantages to both teachers and students (Ziegler 1993; Caroll 1994).

Structural changes for recasting large schools as a set of smaller learning communities are described in the Conference Report for the Consolidated Appropriations Act, 2000 (Pub. L. 106-113, H.R. Conference Report No. 106-479, at 1240 (1999)). Such methods include establishing small learning clusters, “houses,” career academies, magnet programs, and schools-within-a-school. Other activities may include: Freshman transition activities, advisory and adult advocate systems, academic teaming, multi-year groupings, “extra help” or accelerated learning options for students or groups of students entering below grade level, and other innovations designed to create a more personalized high school experience for students. These structural changes and personalization strategies, by themselves, are not likely to improve student academic achievement. They do, however, create valuable opportunities to improve the quality of instruction and curriculum, and to provide the individualized attention and academic support that all students need to excel academically. The Smaller Learning Communities program encourages Local Education Agencies (LEAs) to set higher academic expectations for all of their students and provides support for reforms that will provide the effective instruction and personalized academic and social support students need to meet those expectations.

Proposed Application Requirements

These proposed requirements are in addition to the content that all Smaller Learning Communities grant applicants must include in their applications as required by the program statute under Title V, Part D, Subpart 4, Section 5441(b) of the ESEA. Local educational agencies (LEAs), including schools funded by the Bureau of Indian Affairs, applying on behalf of large public high schools, are eligible to apply for a planning or implementation grant. A discussion of each proposed application requirement follows:

A. Proof of Eligibility

We propose that, to be considered for funding, LEAs must identify in their applications the name(s) of the eligible school(s) and the number of students enrolled in each school. Enrollment figures must be based upon data from the current school year or data from the most recently completed school year. We will not accept applications from LEAs applying on behalf of schools that are being constructed and do not have an active student enrollment at the time of application.

Rationale

The Department needs this information to determine if each school identified in an application meets the proposed definition of a large high school and to ensure that an LEA is not applying for more than 10 schools. Further, the Department requires schools have an enrollment of over 1,000 students in grades 9 through 12. Schools under construction do not have actual enrollment data to be used to determine eligibility.

B. School Report Cards

We propose to require that LEAs provide, for each school included in the application, the most recent “report card” produced by the State or the LEA to inform the public about the characteristics of the school and its students and student academic achievement and other student outcomes. These “report cards” must include, at a minimum, the information that LEAs are required to report for each school under section 1111(h)(2)(B)(ii) of the ESEA: (1) Whether the school has been identified for school improvement; and (2) information that shows how the academic assessments and other indicators of adequate yearly progress compare to students in the LEA and the State performance of the school's students on the statewide assessment as a whole.

Rationale

The Department needs the “report cards” to verify the accuracy of information the LEA provides in its application about student academic achievement and other student outcomes at each school.

C. Types of Grants

We propose awarding two types of grants in this competition: (1) Planning grants, which will be awarded to support planning, design, and other preparatory activities that culminate in the development of a detailed plan for the implementation of a smaller learning communities program in a school; and (2) implementation grants, which will be awarded to applicants to support the implementation of a new smaller learning community program within each targeted high school, or to expand an existing smaller learning community program.

Planning grants will be awarded for a period up to 12 months, and implementation grants will be awarded for a period up to 36 months. We propose to require that applicants for implementation grants provide detailed, yearly budget information for the total grant period requested. Understanding the unique complexities of implementing a program that affects a school's organization, physical design, curriculum, instruction, and preparation of teachers, we anticipate awarding the entire grant amount for implementation projects at the time of the initial award.

Rationale

Effectively implementing a smaller learning community program requires significant prior planning and preparation, as well as extensive consultation with, and participation by, school personnel, parents, students, and community leaders. It requires fundamentally rethinking how a school is organized and how instruction and other direct services to students are delivered. It is not a discrete activity that can be carried out by a handful of teachers and school personnel without the involvement of the larger school community. We are proposing to award planning grants to those LEAs that may need additional resources to carry out these essential preparatory activities. Implementation grants would be available to those LEAs that have engaged in extensive planning activities and developed plans for implementing or expanding a smaller learning community program at one or more high schools.

D. Applications on Behalf of Multiple Schools

In an effort to encourage systemic, district-level reform efforts, we propose permitting an individual LEA to submit only one planning grant application and one implementation grant application in a competition, specifying in each application which high schools the LEA intends to fund.

We would not permit an LEA to apply on behalf of a high school for which it does not have governing authority, such as a high school in a neighboring school district. An LEA, however, may form a consortium with another LEA and submit a joint application for funds. They must follow the procedures for group applications described in 34 CFR 75.127-75.129 in EDGAR.

We further propose limiting an LEA to applying for either a planning or implementation grant on behalf of the same high school. A single high school could be included in either the LEA's planning grant application or its implementation grant application, but not both. An LEA is eligible for only one grant whether the LEA applies independently or as part of a consortium application.

Rationale

This requirement is designed to ensure that each LEA that receives assistance under this program will manage and coordinate school-level planning and implementation activities as part of a single, coherent, district-wide reform strategy. This will help LEAs make the most effective and efficient use of SLC resources and assist them in aligning SLC activities with other district-level initiatives, including the implementation of activities carried out under other programs funded by the ESEA and the Carl D. Perkins Vocational and Technical Education Act. For the same reason, we are proposing to require that the LEA have governing authority over each high school it includes in its application. A high school will have considerable difficulty implementing or expanding a smaller learning community program without the active participation of its parent LEA.

We propose limiting an LEA to applying for either a planning or implementation grant on behalf of a single high school because of the different nature and purposes of the two types of grants. A planning grant supports planning, design, and preparatory activities that culminate in the development of a plan for implementing a smaller learning community program. Applicants pursuing planning grant funds must not yet have developed a viable plan. Implementation grants support the implementation of a plan to create or expand a smaller learning community program in a high school. Applicants must be prepared to either implement a new smaller learning community program or to expand an existing SLC program.

E. Award Ranges/Project Periods

For a one-year planning grant, we propose that LEAs applying on behalf of only one school would be eligible for a grant in the range of $25,000 to $50,000. LEAs applying on behalf of a group of eligible schools could receive up to $250,000 per planning grant depending on the number of schools included in the application. To ensure sufficient planning funds at the local level, we propose a limit of 10 schools that an LEA may include in a single application for a planning grant. The following chart provides the ranges for awards that we are proposing for planning grants:

Applicants requesting more funds than the maximum amounts specified for each school and for the total grant would be declared ineligible for funding, and their applications will not be read.

We further propose that schools that received funds through planning grants in a prior year competition will not be eligible to apply for additional planning grants.

For a 36-month implementation grant, we propose that LEAs may receive, on behalf of a single school, $250,000 to $500,000, depending upon the size of the school. LEAs applying on behalf of a group of eligible schools could receive up to $5,000,000 per implementation grant. Implementation grants are designed to support extensive redesign and improvement efforts, professional development, direct student services, and other activities associated with creating or expanding a smaller learning community program. To ensure that sufficient funds are available to support implementation activities, we propose a limit of 10 schools that an LEA may include in a single application for an implementation grant.

The following chart provides the ranges of awards per high school that we are proposing for implementation grants:

Applicants requesting more funds than the maximum amounts specified for each school and for the total grant would be declared ineligible for funding, and their applications will not be read.

We propose that schools that received funds through implementation grants in a prior year competition will not be eligible to apply for additional implementation grants.

In previous SLC competitions, some applicants have requested more funds than the amount that we indicated would be available for a grant. Their applications included any number of activities that could only be made possible if the applicants received a funding amount that exceeded the maximum amount specified in the notice. This strategy put at a competitive disadvantage other applicants who requested funds within the specified funding range and outlined a less extensive set of activities. For this reason, we propose to fund only those applications that request an amount that does not exceed the maximum amounts specified for planning and implementation grants.

The actual size of awards will be based on a number of factors. These factors include the scope, quality, and comprehensiveness of the proposed program, and the range of awards indicated in the application.

Rationale

By establishing grant award ranges and maximum LEA award amounts, we will be able to fund a larger number of grants, ensure greater geographic distribution, encourage the planning and implementation of a diverse range of SLC strategies, and provide sufficient funding to support comprehensive reform within each participating high school. We determined these amounts after reviewing the experiences of previous recipients of SLC funds and examining the design and outcomes of other similar Federal, State, and privately funded programs.

The proposed grant award ranges and maximum LEA award amounts for SLC planning grants are the same as those that were established for the competition using FY 2000, FY 2001 and FY 2002 SLC funds. We concluded from our review of the experiences of previous recipients of SLC planning grants that these amounts are sufficient to support the activities needed to develop a detailed plan for implementing an SLC program.

For implementation grants, we are proposing to increase the maximum LEA award amount that we established in previous SLC competitions from $2.5 million to $5 million. In competitions using FY 2000, 2001 and 2002 funds, the $2.5 million maximum award discouraged LEAs from working with more than 5 high schools. An LEA serving 6 high schools could receive no more than an LEA serving 5 high schools. Based on our review of the experiences of previous SLC implementation grantees, we do not believe that this $2.5 million cap is warranted. Though some economies of scale may be achieved by serving multiple high schools, the cost savings are not likely to be so significant that an LEA would not be able to serve 6 or more high schools with the same amount of funds that is awarded to an LEA that is serving just 5 high schools. School districts are organized differently in every State. In a number of States, for example, LEAS are organized by county and govern a large number of high schools across a wide geographical area. The $2.5 million maximum award we imposed in previous competitions inadvertently discouraged these LEAs from implementing smaller learning communities on a system-wide basis.

We also have linked implementation grant award amounts to the size of the student population served by each high school. The experiences of previous SLC grantees indicate that this change is warranted. The cost of implementing a smaller learning community is clearly related to the size of a school's student population. The number of teachers, administrators, counselors, and other school staff, as well as parents and other stakeholders, who must be engaged in the implementation process increases with the number of students enrolled at a high school. Logistical issues also become more complex as the number of students involved grows. Implementing a smaller learning community program in a high school of 2,500 students will require more resources than implementing the program in a high school with 1,000 students. We believe our proposal to link award amounts to school size will ensure that award amounts are more consistent with the true costs of implementing a smaller learning community program.

Only an estimated 20 percent of eligible American high schools have benefited from a planning or implementation grant awarded under the SLC program since FY 2000. For this reason, we are proposing to limit (a) planning grant assistance to those schools that have not previously benefited from an SLC planning grant and (b) implementation grant assistance to those schools that have not previously benefited from an SLC implementation grant.

F. Student Placement

Section 5441(b)(13) of the ESEA, as amended by the No Child Left Behind Act of 2001, requires applicants for SLC grants to describe the method of placing students in the smaller learning community or communities, such that students are not placed according to ability or any other measure, but are placed at random or by student/parent choice, and not pursuant to testing or other judgments.” For instance, projects that place students in any smaller learning community on the basis of their prior academic achievement or performance on an academic assessment are not eligible for assistance under this program.

We propose that, to be considered for funding, applicants for planning grants must include in their application an assurance that the applicant will identify, as part of the planning process, methods of selecting or placing students in a smaller learning community that are not according to ability or any other measure but at random or by student/parent choice, and not pursuant to testing or other judgments.

We further propose that applicants for implementation grants must include an assurance/description of how students will be selected or placed in a smaller learning community such that students will not be placed according to ability or any other measure, but will be placed at random or by student/parent choice, and not pursuant to testing or other judgments.

Rationale

The Department needs this information to ensure that each funded project complies with the requirements of the statute regarding random assignment or student/parent choice for SLC placement of students.

G. Including All Students

We propose to require applicants for planning grants to develop plans to implement or expand a smaller learning community program that will include every student within the school by no later than the end of the fourth school year of implementation. We propose to require applicants for implementation grants to implement or expand a smaller learning community program that will include every student within the school by no later than the end of the fourth school year of implementation. Elsewhere in this notice, we propose to define a smaller learning community as an environment in which a core group of teachers and other adults within the school know the needs, interests and aspirations of each student well, closely monitor his or her progress, and provide the academic and other support he or she needs to succeed.

Rationale

The purpose of creating smaller learning communities within large high schools is to provide students with individualized attention, support, and instruction that will help them excel academically and acquire the knowledge and skills they need to succeed after high school. Young people have many different needs and personal resources, but most young people would benefit from participating in a well-implemented smaller learning community. While it may be easier to implement incremental reforms that include only a limited number of students, we do a disservice to young people when we narrow our sights in this way. For this reason, we propose to support only those projects that will include (or, in the case of planning grants, seek to include) every student within a smaller learning community.

We recognize that recipients of implementation grants may need several years to accomplish this goal. Implementing a smaller learning community program within a large high school is a formidable task, and it may take several years to include all students. We also do not believe that we should dictate how grantees accomplish the goal of including all students. The proposed requirement does not mean, for example, that schools must place all students in “houses,” academies, or other smaller organizational units. Smaller learning communities may also be created by implementing a variety of strategies, such as teacher advisories and more intensive academic counseling and career guidance, which do not necessarily require changes in how a school is organized.

H. Reporting Requirement for Recipients of Planning Grants

We propose to require recipients of planning grants to include as part of their final performance report a copy of the implementation plan they developed during the project period.

Rationale

Planning grants are awarded to support the development of a plan for implementing or expanding a smaller learning community program. Planning grants are not available to LEAs that wish merely to investigate the merits or feasibility of implementing or expanding a smaller learning community program. This preparatory work should be carried out prior to the submission of an application for a planning grant. Though grantees may wish to refine or expand further the implementation plan they develop during the project period, the plan should be substantially complete at the conclusion of the project period. Requiring grantees to submit these implementation plans as part of their final performance report will help ensure that grantees use planning grant funds effectively and appropriately.

I. Performance Indicators

We propose to require applicants for implementation grants to identify in their application specific performance indicators and annual performance objectives for each of these indicators. Specifically, we propose to require applicants to use the following performance indicators to measure the progress of each school:

1. The percentage of students who scored at the proficient and advanced levels on the reading/language arts and mathematics assessments used by the State to measure adequate yearly progress under Part A of Title I of ESEA, disaggregated by subject matter and the following subgroups:

a. All students;

b. Major racial and ethnic groups;

c. Students with disabilities;

d. Students with limited English proficiency; and

e. Economically disadvantaged students.

2. The school's graduation rate, as defined in the State's approved accountability plan for Part A of Title I of ESEA;

3. The percentage of graduates who enroll in postsecondary education, apprenticeships, or advanced training for the semester following graduation;

4. The percentage of graduates who are employed by the end of the first quarter after they graduate (e.g., for students who graduate in May or June, this would be September 30);

5. Other appropriate indicators the LEA may choose to identify in its application, such as:

a. Rates of average daily attendance and year-to-year retention;

b. Achievement and gains in English proficiency of limited English proficient students;

c. The incidence of school violence, drug and alcohol use, and disciplinary actions;

d. The percentage of students completing advanced placement courses, and the rate of passing advanced placement tests (such as Advanced Placement, International Baccalaureate, and courses for college credit); and

e. Teacher, student, and parent satisfaction.

Applicants would be required to include in their applications baseline data for each of these indicators and identify performance objectives for each year of the project period. We further propose to require recipients of implementation grants to report annually on the extent to which each school achieved its performance objectives for each indicator during the preceding school year. We propose to require grantees to include in these reports comparable data, if available, for the preceding three school years so that trends in performance will be more apparent.

Rationale

While creating smaller learning communities appeals to teachers, students, and parents for many reasons, their fundamental purpose is to improve academic achievement and to prepare all young people to participate successfully in postsecondary education or advanced training, the workforce, our democracy, and our communities. As Jacqueline Ancess, Associate Director of the National Center for Restructuring Education, Schools, and Teaching has written, “if the opportunity to develop close relationships with students and know them well is not leveraged on behalf of improving opportunities for their intellectual development, achievement, and success, the promise of these new small schools will be squandered.” (Urban Dreamcatchers: Launching And Leading New Small Schools. 1997. National Center for Restructuring Education, Schools, and Teaching). Assistance provided under the SLC program should also support and enhance the efforts of LEAs and schools to fulfill the ambitious goals of the No Child Left Behind Act of 2001.

For these reasons, it is important that projects measure their progress in improving student academic achievement and related outcomes. Two of the indicators we propose to use, student performance on reading/language arts and mathematics assessments and the graduation rate, are the same indicators used by States to measure the adequate yearly progress of LEAs and schools under Part A of Title I of ESEA. Performance objectives for these indicators should equal or exceed the measurable annual objectives established by the State in its approved accountability plan for Part A of Title I of ESEA.

In today's economy, completing some form of postsecondary education or training beyond high school is becoming a prerequisite to securing employment that pays family-supporting wages and offers opportunities for career advancement. Most parents and students understand this well, and they consider preparing young people for postsecondary education or further learning to be one of the central missions of the American high school. The third indicator we are proposing, entrance into postsecondary education or advanced training, will measure the success of LEAs and schools in fulfilling these expectations. Performance objectives for this indicator should exceed the baseline level of performance and give particular emphasis to narrowing any gaps among all students and between students and economically disadvantaged students, students from major racial and ethnic groups, students with disabilities, and students with limited English proficiency.

Our high schools also must prepare young people to succeed in the workforce. All high school graduates should have the necessary skills to obtain gainful employment, whether they decide to work to help pay for postsecondary education and their living expenses or decide to enter the workforce full-time after high school. The extent to which graduates are able to find employment after leaving high school is another important measure of the success of a high school in meeting the needs of its students.

Certainly, LEAs and schools will have other goals they hope to achieve through the implementation or expansion of a smaller learning communities program. For this reason, we propose to give applicants for implementation grants the opportunity to identify and establish performance objectives for other indicators that they consider useful and appropriate, such as, for example, rates of average daily attendance or incidents of violence and drug and alcohol use.

J. Evaluation of Implementation Grants

We propose to require recipients of implementation grants to support an evaluation of the project that will provide information to the project director and school personnel that will be useful in gauging their progress and in identifying areas for improvement. We propose that each evaluation include an annual report for each of the three years of the project period and a final report that will be completed at the end of the fourth year of implementation. We would require grantees to submit each of these reports to the Department.

In addition, we propose to require that the evaluation be conducted by an independent third party whose role in the project is limited to conducting the evaluation.

Rationale

Implementing or expanding a smaller learning community program is difficult and complex work that administrators, teachers, and other school personnel must carry out at the same time that they are carrying out other demanding, day-to-day responsibilities. An evaluation that provides regular feedback on the progress of implementation and its impact can help the project director and school personnel identify their successes and how they may need to revise their strategies to accomplish their goals. To be most useful, the evaluation should be objective and carried out by an independent third party who has no other role in the implementation of the project.

K. Forty-eight (48) month management plan

We propose to require applicants for implementation grants to include in their applications a management plan for the 12 months following the end of the 36-month project period, and a budget for these activities that will be supported by other Federal, State, local, or private funds. We also propose to require recipients of implementation grants to submit to us a copy of the final evaluation report that will be completed at the end of the fourth year of implementation.

Rationale

Implementation grants will be awarded for a 36-month project period. Fully implementing a smaller learning communities program, however, may require additional time. Implementation grants are also intended to provide the “seed capital” needed to support the initial implementation or expansion of a smaller learning community program. Other Federal, State, local or private funds must be used to continue and sustain the program. Requiring applicants to develop and submit a management plan, and accompanying budget, for the 12 months following the project period will provide information that is needed to assess the extent to which applicants will fully implement the smaller learning community program, as well as provide the resources needed to continue and sustain it at the end of the project period. The final evaluation report will provide information about the success of the grantee in accomplishing the tasks and objectives it describes in the management plan for the 12 months following the end of the project period.

L. High-Risk Status and Other Enforcement Mechanisms

Applicants should note that the requirements listed in this notice are material requirements. Failure to comply with any requirement or with any elements of the grantee's application may subject the grantee to administrative action, including but not limited to designation as a “high-risk” grantee, the imposition of special conditions, or termination of the grant. Circumstances that might cause the Department to take such action include, but are not limited to: The grantee's failure to show improvement on the required performance indicators by the end of the second year of implementation; the grantee's failure to demonstrate that performance remains above the baseline level; the grantee's failure to make substantial progress in completing the milestones outlined in the management plan as submitted in the application; the grantee's expenditure of funds in a manner that is inconsistent with the budget as submitted in the application. The grantee's failure to carry out its plans for sustaining the program into the fourth year of implementation may be taken into account into a future competition in accordance with 34 CFR 75.217(d)(3).

M. Definitions

In addition to the definitions set out in the authorizing statute and 34 CFR 77.1, we propose that the following definitions also apply to this program:

Large High School: A large high school is an entity that includes grades 11 and 12 and has an enrollment of 1,000 or more students in grades 9 and above.

Smaller Learning Community: A smaller learning community is an environment in which a core group of teachers and other adults within the school know the needs, interests, and aspirations of each student well, closely monitor his or her progress, and provide the academic and other support he or she needs to succeed.

BIA School: A BIA school is a school operated or supported by the Bureau of Indian Affairs.

Selection Criteria

We propose that the following selection criteria be used to evaluate applications for new grants. The maximum score for all of these criteria is 100 points. The maximum score for each criterion or factor under that criterion is indicated in the parentheses.

Planning Grants

(a) Need for the project. (10 points) In determining the need for the proposed project, we will consider the extent to which:

(1) (7 points) The applicant will devise a plan or plans to assist school(s) that have the greatest need for assistance relative to other high schools within the State, as indicated by—

(A) Student performance on the academic assessments in reading/language arts and mathematics administered by the State under Part A, Title I of the ESEA;

(B) Gaps in performance between all students and economically disadvantaged students, students from major racial and ethnic groups, students with disabilities, and students with limited English proficiency on the academic assessments in reading or language arts and mathematics administered by the State under Part A, Title I of the ESEA

(C) The school's graduation rate, and gaps in the graduation rate between all students and economically disadvantaged students, students from major racial and ethnic groups, students with disabilities, and students with limited English proficiency;

(D) Disciplinary actions and reported incidents of violence and of drug and alcohol use;

(E) The percentage of graduates who enroll in postsecondary education, apprenticeships, or advanced training in the semester following graduation, and gaps in the percentage of all students who enroll in postsecondary education, apprenticeships, and advanced training and that of economically disadvantaged students, students from major racial and ethnic groups, students with disabilities, and students with limited English proficiency;

(2) (3 points) The applicant's planning activities will address effectively the needs it identified in paragraph (1);

(b) Foundation for planning. (30 points) In determining whether there is an adequate foundation for the development of an effective implementation plan, we will consider the extent to which:

(1) (6 points) Teachers, administrators, and other school staff within each school support the proposed planning project and will be involved actively in the development of an implementation plan, including, particularly, those teachers who will be directly affected by the plan.

(2) (6 points) Teachers, administrators, and other school staff within each school will be provided sufficient and appropriate professional development to enable them to participate effectively in developing the implementation plan.

(3) (6 points) Teachers, administrators, and other school staff within each school will be provided sufficient paid release time during the regular school day or compensated time outside school hours to participate actively in professional development, planning, and preparatory activities.

(4) (6 points) Parents, students, and other community stakeholders (such as institutions of higher education, employers, and community organizations, including local non-profit agencies, faith-based organizations, and other service organizations) support the proposed planning project and will be involved actively in the development of an implementation plan.

(5) (6 points) The implementation or expansion of a smaller learning community program is consistent with, and will advance State and local initiatives to improve student achievement and narrow gaps in achievement between all students and students who are economically disadvantaged, students from major racial and ethnic groups, students with disabilities, and students with limited English proficiency.

(c) Quality of project design. (40 points) In evaluating the quality of the project design, we will consider the extent to which the applicant will adequately and effectively investigate and incorporate in its implementation plan:

(1) (10 points) Research-based strategies, services, and interventions that are likely to improve overall student achievement and other outcomes (including graduation and enrollment in postsecondary education) and narrow any gaps in achievement between all students and economically disadvantaged students, students from major racial and ethnic groups, students with disabilities, and students with limited English proficiency.

(2) (10 points) Research-based strategies, services, and interventions to accelerate learning by students who enter high school with reading/language arts or mathematics skills that are significantly below grade level so that, by no later than the end of the 10th grade, they acquire the reading/language arts and mathematics skills they need to participate successfully in rigorous academic courses that will equip them with the knowledge and skills necessary to transition successfully to postsecondary education, an apprenticeship, or advanced training.

(3) (10 points) A high-quality program of sustained and intensive professional development that will be provided to teachers, administrators, and school staff to assist them in carrying out the implementation plan.

(4) (10 points) Strategies for using funds provided under the ESEA, the Carl D. Perkins Vocational and Technical Education Act, or other Federal programs, as well as local, State, and private funds, to carry out the implementation plan.

(d) Adequacy of resources. (20 points) In determining the adequacy of the financial and personnel resources to support effective planning, we will consider the extent to which:

(1) (8 points) The budget is adequate and funds will be used appropriately and effectively to develop a comprehensive implementation plan.

(2) (6 points) The time commitments of the project director and other key project personnel are appropriate and adequate to achieve the objectives of the proposed project.

(3) (6 points) The qualifications, including relevant training and experience, of the project director and other key project personnel.

Implementation Grants

(a) Need for the project. (10 points) In determining the need for the proposed project, we will consider the extent to which the applicant will:

(1) (5 points) Assist schools that have the greatest need for assistance, as indicated by, relative to other high schools within the State:

(A) Student performance on the academic assessments in reading/language arts and mathematics administered by the State under Part A, Title I of the ESEA;

(B) Gaps in the performance of all students and that of economically disadvantaged students, students from major racial and ethnic groups, students with disabilities, and students with limited English proficiency on the academic assessments in reading or language arts and mathematics administered by the State under Part A, Title I of the ESEA.

(C) The school's graduation rate, and gaps in the graduation rate between all students and economically disadvantaged students, students from major racial and ethnic groups, students with disabilities, and students with limited English proficiency.

(D) Disciplinary actions and reported incidents of violence and of drug and alcohol use;

(E) The percentage of graduates who enroll in postsecondary education, apprenticeships, or advanced training in the semester following graduation, and gaps in the percentage of students who enroll in postsecondary education, apprenticeships, and advanced training between all students and economically disadvantaged students, students from major racial and ethnic groups, students with disabilities, and students with limited English proficiency.

(2) (5 points) Employ strategies and carry out activities in its implementation of the proposed project that address the needs it has identified in paragraph (1);

(b) Foundation for Implementation. (15 points) In determining the quality of the implementation plan for the proposed project, we will consider the extent to which:

(1) (3 points) Teachers within each school support the proposed project and have been and will continue to be involved in its planning, development, and implementation, including, particularly, those teachers who will be directly affected by the proposed project.

(2) (3 points) Administrators, teachers, and other school staff within each school support the proposed project and have been and will continue to be involved in its planning, development, and implementation.

(3) (3 points) Parents, students, and other community stakeholders (such as institutions of higher education, employers, and community organizations, including local non-profit agencies, faith-based organizations, and other service organizations) support the proposed project and have been and will continue to be involved in its planning, development, and implementation.

(4) (3 points) The proposed project is consistent with, and will advance, State and local initiatives to increase student achievement and narrow gaps in achievement between all students and students who are economically disadvantaged, students from major racial and ethnic groups, students with disabilities, or students with limited English proficiency.

(5) (3 points) The applicant demonstrates that it has reviewed relevant scientifically based and other rigorous research and carried out sufficient planning and preparatory activities, outreach, and consultation with teachers, administrators, and other stakeholders to enable it to implement the proposed project at the beginning of the school year immediately following receipt of an award.

(c) Quality of Project Design. (30 points) In determining the quality of the design of the project we will consider the extent to which, using funds provided by this program in conjunction with other Federal, State, local, or private funds, the proposed project will:

(1) (6 points) Implement strategies, new organizational structures, or other changes in practice that are likely to create an environment in which a core group of teachers and other adults within the school know the needs, interests, and aspirations of each student well, closely monitor his or her progress, and provide the academic and other support he or she needs to succeed.

(2) (6 points) Implement research-based strategies, services, and interventions that are likely to improve overall student achievement and other outcomes (including graduation and enrollment in postsecondary education) and narrow any gaps in achievement between all students and economically disadvantaged students, students from major racial and ethnic groups, students with disabilities, or students with limited English proficiency, such as—

(A) More rigorous academic curriculum for all students, and the provision of academic support to struggling students who need assistance to master more challenging academic content;

(B) More intensive and individualized educational counseling and career and college guidance, provided through mentoring, teacher advisories, adult advocates, or other means;

(C) Strategies designed to increase average daily attendance, increase the percentage of students who transition from the 9th to 10th grade, and improve the graduation rate; and

(D) Expanding opportunities for students to participate in Advanced Placement courses and academic and technical courses that offer both high school and postsecondary credit.

(3) (6 points) Implement accelerated learning strategies and interventions that will assist students who enter the school with reading/language or mathematics skills that are significantly below grade level that—

(A) Will serve all students who enter the school with reading/language arts or mathematics skills that are significantly below grade level;

(B) Are designed to equip participating students with grade-level reading/language arts and mathematics skills by no later than the end of 10th grade;

(C) Are grounded in scientifically based research;

(D) Include the use of age-appropriate instructional materials and teaching and learning strategies;

(E) Provide additional instruction and academic support during the regular school day, which may be supplemented by instruction that is provided before or after school, on weekends, and at other times when school is not in session;

(F) Will be delivered with sufficient intensity to improve the reading/language arts or math skills, as appropriate, of participating students; and

(G) Include sustained professional development and ongoing support for teachers and other personnel who are responsible for delivering instruction.

(4) (6 points) Provide high-quality, sustained and intensive professional development throughout the project period that—

(A) Improves the content knowledge of teachers of core academic subjects;

(B) Includes activities designed to enable all teachers of core academic subjects to become “highly qualified” as defined by ESEA by the end of the project period;

(C) Advances the understanding of teachers, administrators, and other school staff of effective, research-based instructional strategies for improving the academic achievement of students, including, particularly, students with academic skills that are significantly below grade level;

(D) Provides teachers, administrators, other school personnel, and parents with the knowledge and skills they need to participate effectively in the development and implementation of a smaller learning community, including professional development that improves the capacity of teachers to deliver instruction and support students within a smaller learning community;

(5) (6 points) Provide the participating schools sufficient flexibility and autonomy to enable school administrators, teachers, other school staff, and parents to participate as full partners in the implementation of the proposed project.

(d) Quality of the Management Plan. (25 points) In determining the quality of the management plan for the proposed project, we consider the following factors:

(1) (10 points) The adequacy of the management plan to achieve the objectives of the proposed project on time and within budget, including clearly defined responsibilities and detailed timelines and milestones for accomplishing project tasks.

(2) (5 points) The extent to which the time commitments of the project director and other key personnel, including the individuals who will have primary responsibility for implementing the project at each school, are appropriate and adequate to achieve the objectives of the proposed project.

(3) (5 points) The qualifications, including relevant training and experience, of the project director and other key personnel, including the individuals who will have primary responsibility for professional development and technical assistance, and the individuals responsible for implementing the project at each school.

(4) Adequacy of resources. (5 points) In determining the adequacy of resources for the proposed project, we consider:

(A) The extent to which the budget is adequate and costs are directly related to the objectives and design of the proposed project.

(B) The extent to which the applicant will use funds provided under the ESEA, the Carl D. Perkins Vocational and Technical Education Act, or other Federal programs, as well as discretionary grants provided by the State or private sources, to support the implementation of the project;

(C) The potential for continued support of the project after Federal funding ends.

(e) Quality of Project Evaluation. (20 points) In determining the quality of the project evaluation conducted by an independent, third party evaluator, we consider the following factors:

(1) (4 points) The extent to which the methods of evaluation are thorough, feasible, and appropriate to the goals, objectives, and outcomes of the proposed project.

(2) (4 points) The extent to which the evaluation will collect and annually report accurate, valid, and reliable data for each of the required performance indicators, including student achievement data that are disaggregated for economically disadvantaged students, students from major racial and ethnic groups, students with disabilities, and students with limited English proficiency.

(3) (4 points) The extent to which the evaluation will collect additional qualitative and quantitative data that will be useful in assessing the success and progress of implementation, including, at a minimum:

(A) The results of multiple measures of student academic achievement, including results that are disaggregated for economically disadvantaged students, students from major racial and ethnic groups, students with disabilities, students with limited English proficiency, and other subgroups identified by the applicant.

(B) Rates of average daily attendance, year-to-year retention, and graduation that are disaggregated for economically disadvantaged students, students from major racial and ethnic groups, students with disabilities, students with limited English proficiency, and other subgroups identified by the applicant.

(C) Information on the satisfaction and perspectives of teachers, administrators, parents, and students at each school.

(D) Information on the extent to which the school is providing a safe and orderly environment for learning, such as the number of disciplinary actions, incidents of violence or drug or alcohol use, or other indicators identified by the applicant.

(E) Information on the progress of the school in creating an environment in which a core group of teachers and other adults within the school know the needs, interests and aspirations of each student well, closely monitor his or her progress, and provide the academic and other support he or she needs to succeed.

(4) (4 points) The extent to which the methods of evaluation will provide timely and regular feedback to the LEA and the school on the success and progress of implementation, and identify areas for needed improvement.

(5) (4 points) The qualifications and relevant training and experience of the independent evaluator.

Discussion of Priorities

We will announce the final priorities in a notice in the Federal Register. We will determine the final priorities after considering responses to this notice and other information available to the Department. This notice does not preclude us from proposing or funding additional priorities, subject to meeting applicable rulemaking requirements.

Note: This notice does not solicit applications. In any year in which we choose to use one or more of these proposed priorities, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) Awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Proposed Priority 1: Helping All Students to Succeed in Rigorous Academic Courses (Planning Grants)

This proposed priority would support projects that will develop a plan to create or expand a smaller learning community program that will implement a coherent set of strategies and interventions that are designed to ensure that all students who enter high school with reading/language arts and mathematics skills that are significantly below grade level “catch up” quickly so that, by no later than the end of the 10th grade, they acquire the reading/language arts and mathematics skills they need to participate successfully in rigorous academic courses that will equip them with the knowledge and skills necessary to transition successfully to postsecondary education, an apprenticeship, or advanced training.

These accelerated learning strategies and interventions must:

(1) Be grounded in the findings of scientifically based and other rigorous research;

(2) Include the use of age-appropriate instructional materials and teaching and learning strategies;

(3) Provide additional instruction and academic support during the regular school day, which may be supplemented by instruction that is provided before or after school, on weekends, and at other times when school is not in session; and

(4) Provide sustained professional development and ongoing support for teachers and other personnel who are responsible for delivering instruction.

Proposed Priority 2: Helping All Students to Succeed in Rigorous Academic Courses (Implementation Grants)

This proposed priority would support projects that will implement a coherent set of strategies and interventions that are designed to ensure that all students who enter high school with reading/language arts or mathematics skills that are significantly below grade level “catch up” quickly so that, by no later than the end of the 10th grade, they acquire the reading/language arts and mathematics skills they need to participate successfully in rigorous academic courses that will equip them with the knowledge and skills necessary to transition successfully to postsecondary education, an apprenticeship, or advanced training.

These accelerated learning strategies and interventions must:

(1) Be grounded in the findings of scientifically based and other rigorous research;

(2) Include the use of age-appropriate instructional materials and teaching and learning strategies;

(3) Provide additional instruction and academic support during the regular school day, which may be supplemented by instruction that is provided before or after school, on weekends, and at other times when school is not in session; and

(4) Provide sustained professional development and ongoing support for teachers and other personnel who are responsible for delivering instruction.

Executive Order 12866

This notice of proposed requirements, priorities, and selection criteria has been reviewed in accordance with Executive Order 12866. Under the terms of the order, we have assessed the potential costs and benefits of this regulatory action.

The potential costs associated with this notice of proposed requirements, priorities, and selection criteria are those resulting from statutory requirements and those we have determined as necessary for administering this program effectively and efficiently.

In assessing the potential costs and benefits—both quantitative and qualitative—of this notice of proposed requirements, priorities, and selection criteria, we have determined that the benefits of the proposed requirements, priorities, and selection criteria justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.215L, Smaller Learning Communities Program)
Program Authority: 20 U.S.C. 7249.
Dated: January 2, 2004.
Susan Sclafani,
Acting Assistant Secretary for Vocational and Adult Education.

[FR Doc. 04-326 Filed 1-6-04; 8:45 am]

BILLING CODE 4000-01-P